NATIONAL SCIENCE FOUNDATION

Proposal Review Panel for Physics; Notice of Meeting

In accordance with the Federal Advisory Committee Act (Pub. L. 92-463, as amended), the National Science Foundation (NSF) announces the following meeting:

Name and Committee Code: Mid-Term Site Visit to BaPSF for the Division of Physics (1208)—University of California—Los Angeles.

Date and Time: March 25, 2019; 8:00 a.m.-6:30 p.m.

Place: University of California, 1000 Veteran Ave, Los Angeles, CA 90024.

Type of Meeting: Closed.

Contact Person: Lukin Vyacheslav, Program Director for Plasma, Division of Physics, National Science Foundation, 2415 Eisenhower Avenue, Room W9218, Alexandria, VA 22314; Telephone: (703) 292-7382.

Purpose of Meeting: Site visit to provide an evaluation of the progress of the projects at the host site for the Division of Physics at the National Science Foundation.

Agenda

March 25, 2019; 8:00 a.m.-6:30 p.m.

8:00 a.m.-8:30 a.m. Executive Session (Closed)

8:30 a.m.-9:00 a.m. Overview

9:00 a.m.-9:45 a.m. Physics Topic 1

9:45 a.m.-10:15 a.m. Lab Tour

10:15 a.m.-10:30 a.m. Break

10:30 a.m.-11:15 a.m. Physics Topic 2

11:15 a.m.-11:45 a.m. Physics Topic 3

12:00 p.m.-12:30 p.m. Executive Session (Closed)

12:30 p.m.-1:15 p.m. Lunch with Students

1:15 p.m.-2:00 p.m. Physics Topic 4 (Co-PIs)

2:00 p.m.-2:45 p.m. Education Broader Impacts (PI and Co-PIs)

2:45 p.m.-3:15 p.m. Operations and Structure of Group (PI)

3:15 p.m.-3:45 p.m. Personnel Information (PI)

3:45 p.m.-4:15 p.m. Executive Session (Closed)

4:15 p.m.-4:45 p.m. Coffee with Collaborating Groups

4:45 p.m.-5:05 p.m. Executive Session with Dean and V.P. for Research

5:05 p.m.-6:05 p.m. Questions for PI's

6:05 p.m.-6:30 p.m. Site Visitors and NSF Staff Dinner (Closed)

Reason for Closing: Topics to be discussed and evaluated during closed portions of the site review will include information of a proprietary or confidential nature, including technical information and information on personnel. These matters are exempt under 5 U.S.C. 552b(c), (4) and (6) of the Government in the Sunshine Act.

Dated: February 14, 2019.
Crystal Robinson,
Committee Management Officer.

[FR Doc. 2019-02879 Filed 2-20-19; 8:45 am]

BILLING CODE 7555-01-P